DEPARTMENT OF THE INTERIOR

National Park Service

Notice of Termination of Preparation of an Environmental Impact Statement for the Washington-Rochambeau Revolutionary Route Resource Study

AGENCY: National Park Service, Department of the Interior.

ACTION: Termination of preparation of an environmental impact statement.

SUMMARY: This notice announces the termination of the process to develop an Environmental Impact Statement (EIS) for the Washington-Rochambeau Revolutionary Route Resource Study. The study area includes parts of Connecticut, Delaware, Maryland, Massachusetts, New Jersey, New York, Pennsylvania, Rhode Island and Virginia. In accordance with section 102(2)(C) of the National Environmental Policy Act of 1969, the National Park Service published a Notice of Intent to Prepare an Environmental Impact Statement in the Federal Register on March 5, 2002.

Subsequent scoping did not reveal the potential for significant adverse impacts or controversy; therefore, it was determined that an Environmental Assessment (EA) would suffice to address National Environmental Policy Act requirements for this study.

The Washington-Rochambeau Revolutionary Route Resource Study and Environmental Assessment was made available for public review starting 11/13/2006, and the comment period ended 5/4/2007. Based on the results of public comments, a Finding of No Significant Impact (FONSI) was prepared for review and approval by the NPS Northeast Regional Director.

The study report can be viewed at the NPS Planning, Environment and Public Comment (PEPC) Web site at: http://parkplanning.nps.gov/.

FOR FURTHER INFORMATION CONTACT: Terrence Moore, Chief of Planning and Special Studies, National Park Service, Northeast Region, 200 Chestnut Street, 3rd Floor, Philadelphia, PA 19106.

Dated: September 24, 2007.
Dennis R. Reidenbach,
Director, Northeast Region, National Park Service.

Editorial Note: This document was received at the Office of the Federal Register on Thursday, December 6, 2007.

[FR Doc. E7-24009 Filed 12-10-07; 8:45 am]

BILLING CODE 4312-52-P